DEPARTMENT OF AGRICULTURE

Deschutes Provincial Advisory Committee (DPAC)

AGENCY: Forest Service, USDA.

ACTION: Notice of meeting.

SUMMARY: The Deschutes Provincial Advisory Committee will meet on November 18-19, 2009, to review accomplishments and to plan for focused and effective actions in the next three years. Members will meet at the Deschutes National Forest Supervisor's office (1001 SW. Emkay Drive, Bend, Oregon) at 3 p.m. on November 18 and carpool to the Lake Creek Lodge in Camp Sherman for an overnight stay, returning 3 p.m. the next day. An Open Public Forum is scheduled for 9:40-10 a.m. on November 19.

All Deschutes Province Advisory Committee Meetings are open to the public.

FOR FURTHER INFORMATION CONTACT: Chris Mickle. Province Liaison, Crescent Ranger District, Highway 97, Crescent, Oregon, 97733, Phone (541) 433-3216.

John Allen,
Deschutes National Forest Supervisor.

[FR Doc. E9-27274 Filed 11-12-09; 8:45 am]

BILLING CODE 3410-11-M